SURFACE TRANSPORTATION BOARD

[Docket No. FD 36410]

Northeast Texas Connector, LLC—Operating Exemption—Northeast Texas Rural Rail Transportation District

Northeast Texas Connector, LLC (NETC), a noncarrier, has filed a verified notice of exemption under 49 CFR 1150.31 to operate a rail line owned by the Northeast Texas Rural Rail Transportation District (NETEX) located between milepost 555.0 in Greenville, Tex., and milepost 489.41 in Winfield, Tex., a distance of approximately 65.59 route miles (the Line).¹

¹ On February 14, 2020, another carrier, The Blacklands Railroad (BLR), was granted an exemption to discontinue its operations on the Line and an adjacent 10.41-mile segment of track owned by Union Pacific Railroad Company. Blacklands R.R.—Discontinuance of Serv. Exemption—in Hunt, Delta, Hopkins, Franklin, & Titus Ctys., Tex., AB 1108 (Sub-No. 1X) (STB served Feb. 14, 2020).

NETC states that the proposed transaction does not involve any provision or agreement that would limit future interchange with a third-party connecting carrier. NETC certifies that its projected annual revenues as a result of this transaction will not result in the creation of a Class II or Class I rail carrier and will not exceed $5 million.

NETC has also filed a petition for waiver of 49 CFR 1150.32(b), which states that a notice of exemption will be effective 30 days after the notice is filed. NETC asks the Board to waive that provision and allow this notice to become effective after 23 days so that NETC can assume operations by June 26, 2020. NETC states that BLR intends to discontinue its operations on the Line on June 30, 2020, and that NETC seeks to avoid a disruption of rail service on the Line. NETC's request will be addressed in a separate decision. The Board will establish the effective date of the exemption in its separate decision on the waiver request.

If the verified notice contains false or misleading information, the exemption is void ab initio. Petitions to revoke the exemption under 49 U.S.C. 10502(d) may be filed at any time. The filing of a petition to revoke will not automatically stay the effectiveness of the exemption. Petitions for stay must be filed no later than June 24, 2020.

All pleadings, referring to Docket No. 36410, must be filed with the Surface Transportation Board either via e-filing or in writing addressed to 395 E Street SW, Washington, DC 20423-0001. In addition, a copy of each pleading must be served on NETC's representative, Charles Shewmake, Thompson & Knight, LLP, One Arts Plaza, 1722 Routh Street, Suite 1500, Dallas, TX 75201.

According to NETC, this action is categorically excluded from environmental review under 49 CFR 1105.6(c) and from historic reporting requirements under 49 CFR 1105.8(b)(1).

Board decisions and notices are available at www.stb.gov.

Decided: June 15, 2020.
By the Board, Allison C. Davis, Director, Office of Proceedings.
Brendetta Jones,
Clearance Clerk.

[FR Doc. 2020-13228 Filed 6-18-20; 8:45 am]

BILLING CODE 4915-01-P